DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Norfolk Southern Corporation

[Docket Number FRA-2008-0077]

The Norfolk Southern Corporation (NS) seeks a waiver of compliance from certain provisions of 49 CFR Part 232, Brake System Safety Standards for Freight and Other Non-Passenger Trains and Equipment. Specifically, NS is requesting a waiver to increase the 4-hour off-air requirement, as prescribed in 49 CFR 232.205(a)(3), to 24 hours at certain locations on NS's Pocahontas Division in West Virginia.

NS has approximately 12 locations where they will park a train of approximately 100 cars that have received a Class I brake test. The locomotives will cut away from the cars and leave them in the siding without any means to maintain air. These cars will remain in the siding until another train arrives and attaches to the cars that have been left in the siding. Because these cars have been off-air for more than 4 hours (sometimes as much as 24 hours) § 205(a)(3) requires that they be given another Class I brake test, although they have only travelled a distance of approximately 150 miles. NS feels that these tests are unnecessary and subject their employees to performing these tests in less than desirable walking conditions. NS has tried to leave a locomotive attached to the cars in the siding to maintain air pressure. However, NS states that this is not cost effective, since the locomotive may be required to idle for 24 hours at a cost of $57 an hour, in addition to the system average of $750 per day for the locomotive out of service cost. The addition of yard air sources has been considered, but due to the geographic location and lack of available electrical power, the installation cost is estimated at $707,397.

NS does not feel that safety will be compromised as a Class III brake test would be performed on the blocks left in the siding when added to trains. To date, NS states that there is no evidence of vandalism at any of the locations where they would invoke this waiver.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0077) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on July 29, 2008.
Grady C. Cothen, Jr.,
Deputy Associate Administrator for Safety Standards and Program Development.

[FR Doc. E8-17707 Filed 7-31-08; 8:45 am]

BILLING CODE 4910-06-P